OFFICE OF NATIONAL DRUG CONTROL POLICY

Notice of Meeting of Drug Free Communities Advisory Commission

SUMMARY: In accordance with the Drug-Free Communities Act, a meeting of the Drug Free Communities Advisory Commission will be held on October 4-5, 2000 at the Office of National Drug Control Policy in the 5TH Floor Conference Room, 750 17th Street NW, 7th Floor, Washington, DC. The meeting will commence at 1:00 p.m. on Wednesday October 4th and adjourn for the evening at 5:00 p.m. The meeting will resume at 8:30 a.m. on Thursday October 5th and conclude at 12:00 noon. The agenda will include: a report by the Office of Juvenile Justice and Delinquency Prevention regarding the FY2000 Drug Free Communities grant selection process; a report by the ONDCP Administrator of the Drug Free Communities Support Program; and a legislative update regarding the Drug Free Communities 2001 Budget. There will be an opportunity for public comment from 11:00 a.m. until 11:30 on Thursday October 5, 2000.

FOR FURTHER INFORMATION CONTACT: Please direct any questions to Linda V. Priebe, Attorney-Advisor, (202) 395-6622, Office of National Drug Control Policy, Executive Office of the President, Washington, DC 20503.

Dated: August 16, 2000.
Linda V. Priebe,
Attorney-Advisor.

[FR Doc. 00-21836 Filed 8-25-00; 8:45 am]

BILLING CODE 3180-02-P